DEPARTMENT OF TRANSPORTATION

Federal Aviation Administration

14 CFR Part 71

[Docket No. FAA-2017-0230; Airspace Docket No. 17-ASO-8]

Amendment of Class D and Class E Airspace; New Bern, NC

AGENCY: Federal Aviation Administration (FAA), DOT.

ACTION: Final rule.

SUMMARY: This action amends Class D and Class E airspace at Coastal Carolina Regional Airport (formally Craven County Regional Airport), New Bern, NC. The Notice to Airmen (NOTAM) part-time status is removed from Class E airspace designated as an extension. Also, under Class E surface airspace, the segment using the New Bern VHF omnidirectional range/distance measuring equipment (VOR/DME) navigation aid used to describe the northeast and southwest extensions to the airport is removed. Controlled airspace is necessary for the safety and management of instrument flight rules (IFR) operations at the airport. This action also updates the geographic coordinates of the airport, updates the airport's name, and makes an editorial change replacing Airport/Facility Directory with the term Chart Supplement in the legal descriptions of associated Class D and E airspace. Also, the docket number for this rule is corrected to FAA-2017-0230.

DATES: Effective 0901 UTC, December 7, 2017. The Director of the Federal Register approves this incorporation by reference action under title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, P.O. Box 20636, Atlanta, Georgia 30320; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace at Coastal Carolina Regional Airport, New Bern, NC, to support IFR operations under standard instrument approach procedures at the airport.

History

The FAA published a notice of proposed rulemaking (NPRM in the Federal Register (82 FR 24265, May 26, 2017) Docket No. FAA-2017-0230 to amend Class D airspace, Class E surface area airspace, Class E airspace designated as an extension to a Class D surface area, and Class E airspace extending upward from 700 feet or more above the surface at Coastal Carolina Regional Airport (formerly Craven County Regional Airport), New Bern, NC.

Interested parties were invited to participate in this rulemaking effort by submitting written comments on the proposal to the FAA. No comments were received.

Class E airspace designations are published in paragraph 6005 of FAA Order 7400.11B dated August 3, 2017, and effective September 15, 2017, which is incorporated by reference in 14 CFR part 71.1. The Class E airspace designations listed in this document will be published subsequently in the Order.

Availability and Summary of Documents for Incorporation by Reference

This document proposes to amend FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This action amends Title 14 Code of Federal Regulations (14 CFR) part 71 by amending Class D airspace, Class E surface area airspace, Class E airspace designated as an extension to a Class D surface area, and Class E airspace extending upward from 700 feet or more above the surface at Coastal Carolina Regional Airport (formerly Craven County Regional Airport), New Bern, NC. The NOTAM part-time status is removed from the Class E airspace area designated as an extension to a Class D surface area.

Class E airspace extending upward from 700 feet above the surface is amended to within a 7-mile radius (from a 6.5-mile radius) of the airport. The New Bern VOR/DME is removed from the description under Class E surface airspace, as it is no longer needed to describe the boundaries of the airport.

For the associated Class D and E airspace areas, the geographic coordinates of the airport are adjusted to coincide with the FAAs aeronautical database, and the airport name is changed from Craven County Regional Airport to Coastal Carolina Regional Airport.

Also, this action replaces the outdated term Airport/Facility Directory with the term Chart Supplement in the associated Class D and E airspace legal descriptions.

Subsequent to publication, the FAA discovered the docket number in the NPRM was incorrectly listed as FAA-2016-0230. This action corrects the docket number to FAA-2017-0230.

Class D and Class E airspace designations are published in Paragraph 5000, 6002, 6004, and 6005, respectively, of FAA Order 7400.11B, dated August 3, 2017, and effective September 15, 2017, which is incorporated by reference in 14 CFR 71.1. The Class D and E airspace designations listed in this document will be published subsequently in the Order.

Regulatory Notices and Analyses

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11B, Airspace Designations and Reporting Points, dated August 3, 2017, effective September 15, 2017, is amended as follows:

Paragraph 5000 Class D Airspace.

* * * * *

ASO NC D New Bern, NC [Amended]

Coastal Carolina Regional Airport, NC

(Lat. 35°04′22″ N., long. 77°02′35″ W.)

That airspace extending upward from the surface to and including 2,500 feet MSL within a 4-mile radius of Coastal Carolina Regional Airport. This Class D airspace area is effective during the specific dates and times established in advance by a Notice to Airmen. The effective date and time will thereafter be continuously published in the Chart Supplement.

Paragraph 6002 Class E Surface Area Airspace.

* * * * *

ASO NC E2 New Bern, NC [Amended]

Coastal Carolina Regional Airport, NC

(Lat. 35°04′22″ N., long. 77°02′35″ W.)

Within a 4-mile radius of Coastal Carolina Regional Airport. This Class E airspace area is effective during the specific dates and times established in advance by a Notice to Airmen. The effective date and time will thereafter be continuously published in the Chart Supplement.

Paragraph 6004 Class E Airspace Designated as an Extension to a Class D Surface Area.

* * * * *

ASO NC E4 New Bern, NC [Amended]

Coastal Carolina Regional Airport, NC

(Lat. 35°04′22″ N., long. 77°02′35″ W.)

New Bern VOR/DME

(Lat. 35°04′23″ N., long. 77°02′42″ W.)

That airspace extending upward from the surface within 2.4 miles each side of the New Bern VOR/DME 038° and 210° radials, extending from the 4-mile radius to 7 miles northeast and southwest of the VOR/DME.

Paragraph 6005 Class E Airspace Areas Extending Upward From 700 Feet or More Above the Surface of the Earth.

* * * * *

ASO AL E5 New Bern, NC [Amended]

Coastal Carolina Regional Airport, NC

(Lat. 35°04′22″ N., long. 77°02′35″ W.)

That airspace extending upward from 700 feet above the surface within a 7-mile radius of Coastal Carolina Regional Airport.

Issued in College Park, Georgia, on September 21, 2017.
Ryan W. Almasy,
Manager, Operations Support Group, Eastern Service Center, Air Traffic Organization.

[FR Doc. 2017-20845 Filed 9-29-17; 8:45 am]

BILLING CODE 4910-13-P